COMMITTEE FOR PURCHASE FROM PEOPLE WHO ARE BLIND OR SEVERELY DISABLED

Procurement List Proposed Additions and Deletions

AGENCY: Committee for Purchase From People Who Are Blind or Severely Disabled.

ACTION: Proposed additions to and deletions from the Procurement List.

SUMMARY: The Committee is proposing to add to the Procurement List products and services to be furnished by nonprofit agencies employing persons who are blind or have other severe disabilities, and to delete products previously furnished by such agencies.

Comments Must be Received on or Before: 4/5/2010.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Coast Guard Physical Fitness Uniform, T-Shirts X Small to XXX Large

NSN: 8465-00-NIB-0189—XSmall

NSN: 8465-00-NIB-0190—Small

NSN: 8465-00-NIB-0191—Medium

NSN: 8465-00-NIB-0192—Large

NSN: 8465-00-NIB-0193—XLarge

NSN: 8465-00-NIB-0194—XXLarge

NSN: 8465-00-NIB-0195—XXXLarge

NPA: The Arkansas Lighthouse for the Blind, Little Rock, AR

Coast Guard Physical Fitness Uniform, Trunks X Small to XXX Large

NSN: 8465-00-NIB-0196—XSmall

NSN: 8465-00-NIB-0197—Small

NSN: 8465-00-NIB-0198—Medium

NSN: 8465-00-NIB-0199—Large

NSN: 8465-00-NIB-0200—XLarge

NSN: 8465-00-NIB-0201—XXLarge

NSN: 8465-00-NIB-0202—XXXLarge

NPA: Assoc f/t Blind &Visually Impaired & Goodwill Ind. of Greater Rochester, Rochester, NY

Contracting Activity: Dept of Homeland Security, U.S. Coast Guard, Washington, DC

Coverage: C-List for the government requirements for the Department of Homeland Security, U.S. Coast Guard, Washington, DC

Duster, Microfiber

NSN: 7920-00-NIB-0495—Mini Microfiber Duster

NSN: 7920-00-NIB-0496—Duster, Microfiber, Utility

NSN: 7920-00-NIB-0499—Replacement Sleeves for Microfiber Utility Duster

NPA: Industries for the Blind, Inc., West Allis, WI

Contracting Activity: Federal Acquisition Service, GSA/FAS Southwest Supply Center (QSDAC), Fort Worth, TX

Coverage: B-List for the broad government requirement as aggregated by the General Services Administration.

Safety Pins

NSN: 8315-00-787-7000—2.0” with tapered points

NSN: 8315-00-787-8000—1.5” with tapered points

NPA: Genesee County Chapter, NYSARC, Batavia, NY

Contracting Activity: Federal Acquisition Service, GSA/FAS Southwest Supply Center (QSDAC), Fort Worth, TX

Coverage: B-List for the broad government requirement as aggregated by the General Services Administration.

Services

Service Type/Location: Laundry Services, Alaska VA Healthcare System and Regional Office, Anchorage, AK

NPA: MQC Enterprises, Inc., Anchorage, AK

Contracting Activity: Department of Veterans Affairs, Network Business Office (10N20VBO), Vancouver, WA

Service Type/Location: Landscape Maintenance, Veterans Affairs Northern California Healthcare System, 4951 Arroyo Road, Livermore, CA

NPA: Rubicon Programs, Inc., Richmond, CA

Contracting Activity: Department of Veterans Affairs, VISN 21 Consolidated Contracting Activity, Mare Island, CA

Service Type/Location: Custodial and Grounds Maintenance Services, U.S. Courthouse, 525 Magoffin Ave, El Paso, TX

NPA: Training, Rehabilitation, & Development Institute, Inc., San Antonio, TX

Contracting Activity: General Services Administration, Public Buildings Service, Fort Worth, TX

Service Type/Location: Custodial Services, St. Louis Federal Complex, 4300 Goodfellow Boulevard, St. Louis, MO

NPA: MGI Services Corporation, St. Louis, MO

Contracting Activity: General Services Administration, Public Buildings Service, Kansas City, MO

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

USB Flash Drive, Flip Style

NSN: 7045-01-568-4206—1 GB, no encryption

NSN: 7045-01-568-4207—1GB, with encryption

USB Flash Drive with password protection

NSN: 7045-01-558-4983—512MB

NSN: 7045-01-558-4984—USB Flash Drive

USB Flash Drive with 256-bit AES Encryption

NSN: 7045-01-558-4989—512MB

NSN: 7045-01-558-4990—USB Flash Drive

NPA: North Central Sight Services, Inc., Williamsport, PA

Contracting Activity: GSA/FSS OFC SUP CTR—Paper Products, New York, NY

Barry S. Lineback,
Director, Business Operations.

[FR Doc. 2010-4794 Filed 3-4-10; 8:45 am]

BILLING CODE 6353-01-P